DEPARTMENT OF HEALTH AND HUMAN SERVICES

Centers for Disease Control and Prevention

ACTION: Publication of closed meeting summary of the Advisory Board on Radiation and Worker Health (ABRWH), National Institute for Occupational Safety and Health (NIOSH), CDC.

Committee Purpose: This board is charged with (a) providing advice to the Secretary, Department of Health and Human Services (HHS), on the development of guidelines under Executive Order 13179; (b) providing advice to the Secretary, HHS, on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Background: The ABRWH met on February 6, 2004, in closed session to discuss the Proposed Independent Government Cost Estimates (IGCE) for proposed tasks of a task order contract. This contract, once awarded, will provide technical support to assist the Board in fulfilling its statutory duty to advise the Secretary, HHS, regarding the dose reconstruction efforts under the Energy Employees Occupational Illness Compensation Program Act. A Determination to Close the meeting was approved and published, as required by the Federal Advisory Committee Act.

Summary of the Meeting: Attendance was as follows: Board Members: Paul L. Ziemer, Ph.D., Chair; Henry A. Anderson, M.D., Member; Antonio Andrade, Ph.D., Member; Roy L. DeHart, M.D., M.P.H., Member; Richard L. Espinosa, Member; Michael H. Gibson, Member; Mark A. Griffon, Member; James M. Melius, M.D., Dr.P.H., Member; Wanda I. Munn, Member; Charles L. Owens, Member; Robert W. Presley, Member; Genevieve S. Roessler, Ph.D., Member.

NIOSH Staff: Martha DiMuzio, Cori Homer, Liz Homoki Titus, David Naimon, and Jim Neton; Larry J. Elliott, Executive Secretary. Ray S. Green, Court Recorder

Summary/Minutes: Dr. Ziemer called to order the ABRWH in closed session on February 6, 2004, at 1:45 p.m. The purpose of the closed meeting was to discuss the Independent Government Cost Estimate for proposed tasks of a task order contract that provides technical support to the ABRWH review of completed dose reconstructions.

General topics discussed: Closed session procedures and

Independent Government Cost Estimates for task proposals of the task order contract. Dr. Paul Ziemer adjourned the closed session of the ABRWH meeting at 3 p.m. with no further business being conducted by the ABRWH.

FOR FURTHER INFORMATION CONTACT: Larry Elliott, Executive Secretary, ABRWH, NIOSH, CDC, 4676 Columbia Parkway, Cincinnati, Ohio 45226, telephone (513) 533-6825, fax (513) 533-6826.

The Director, Management Analysis and Services Office, has been delegated the authority to sign Federal Register notices pertaining to announcements of meetings and other committee management activities for both CDC and the Agency for Toxic Substances and Disease Registry.

Dated: February 27, 2004.
Alvin Hall,
Director, Management Analysis and Services Office, Centers for Disease Control and Prevention.

[FR Doc. 04-4944 Filed 3-4-04; 8:45 am]

BILLING CODE 4163-19-P